SUSQUEHANNA RIVER BASIN COMMISSION

Actions Taken at December 15, 2011, Meeting

AGENCY: Susquehanna River Basin Commission.

ACTION: Notice.

SUMMARY: As part of its regular business meeting held on December 15, 2011, in Wilkes-Barre, Pennsylvania, the Commission convened a public hearing, at which it took the following actions: (1) Rescinded approval for three water resources projects; and (2) approved, denied, or tabled the applications of certain water resources projects. The Commission took additional actions at its business meeting as set forth in the Supplementary Information below.

DATES: December 15, 2011.

ADDRESSES: Susquehanna River Basin Commission, 1721 N. Front Street, Harrisburg, PA 17102-2391.

FOR FURTHER INFORMATION CONTACT: Richard A. Cairo, General Counsel, telephone: (717) 238-0423, ext. 306; fax: (717) 238-2436; email: rcairo@srbc.net. Regular mail inquiries may be sent to the above address. See also Commission Web site at www.srbc.net.

SUPPLEMENTARY INFORMATION: In addition to the public hearing and its related actions on projects identified in the summary above and the listings below, the following items were also presented or acted on at the business meeting: (1) Presentation of the SRBC Anthracite Remediation Strategy; (2) presentation of the Commission's William W. Jeanes, Sr. Award to Mr. Bernie McGurl, Executive Director of the Lackawanna River Corridor Association; (3) a report on hydrologic conditions in the Susquehanna River Basin; (4) FY-2013 funding of the Susquehanna Flood Forecast and Warning System, the National Streamflow Information Program, and the National Weather Service Advanced Hydrologic Prediction Services; (5) approval of a final rulemaking amending 18 CFR Parts 806; and (6) a preliminary introduction to dockets. The Commission also heard counsel's report on legal matters affecting the Commission. The Commission convened a public hearing and took the following specific actions:

Public Hearing—Rescissions of Project Approvals

The following project approvals were rescinded by the Commission:

1. Project Sponsor and Facility: EXCO Resources (PA), LLC (Pine Creek) (Docket No. 20081203), Cummings Township, Lycoming County, Pa.

2. Project Sponsor and Facility: EXCO Resources (PA), LLC (Unnamed Tributary to Sandy Run) (Docket No. 20081209), Burnside Township, Centre County, Pa.

3. Project Sponsor and Facility: Possum Valley Municipal Authority (Docket No. 20090636), Menallen Township, Adams County, Pa.

Public Hearing—Project Application Tabled

The following project application was tabled by the Commission:

1. Project Sponsor and Facility: Stanley S. Karp Sr. (Tunkhannock Creek), Nicholson Township, Wyoming County, Pa. Application for surface water withdrawal of up to 0.510 mgd (peak day).

Public Hearing—Project Application Denied

The following project application was denied by the Commission:

1. Project Sponsor: Anadarko E&P Company LP. Project Facility: Sproul State Forest—Council Run, Snow Shoe Township, Centre County, Pa. Application for groundwater withdrawal of up to 0.715 mgd (30-day average) from Well PW-11.

Public Hearing—Project Applications Approved

The Commission approved the following project applications:

1. Project Sponsor: Bioenergy International, LLC. Project Facility: Bionol Clearfield, LLC, Clearfield Borough, Clearfield County, Pa. Modification to conditions of the surface water withdrawal approval (Docket No. 20070904).

2. Project Sponsor: Borough of Ephrata. Project Facility: Ephrata Area Joint Authority, Ephrata Borough, Lancaster County, Pa. Modification to conditions of the groundwater withdrawal approval (Docket No. 20110902).

3. Project Sponsor and Facility: Carrizo (Marcellus), LLC (Mosquito Creek-2), Karthaus Township, Clearfield County, Pa. Surface water withdrawal of up to 2.160 mgd.

4. Project Sponsor and Facility: Central New York Oil and Gas Company, LLC (Susquehanna River), Wilmot Township, Bradford County, Pa. Surface water withdrawal of up to 0.540 mgd.

5. Project Sponsor and Facility: Central New York Oil and Gas Company, LLC, Wilmot Township, Bradford County, Pa. Consumptive water use of up to 0.105 mgd.

6. Project Sponsor and Facility: Chesapeake Appalachia, LLC (Susquehanna River—Babcock), Ulster Township, Bradford County, Pa. Surface water withdrawal of up to 3.000 mgd.

7. Project Sponsor and Facility: Chesapeake Appalachia, LLC (Susquehanna River—Elmglade), Wilmot Township, Bradford County, Pa. Surface water withdrawal of up to 2.016 mgd.

8. Project Sponsor and Facility: Chesapeake Appalachia, LLC (Towanda Creek—Sechrist), Canton Township, Bradford County, Pa. Surface water withdrawal of up to 0.504 mgd.

9. Project Sponsor: Clark Trucking, LLC. Project Facility: Northeast Division (Lycoming Creek), Lewis Township, Lycoming County, Pa. Surface water withdrawal of up to 0.500 mgd.

10. Project Sponsor: Clark Trucking, LLC. Project Facility: Northeast Division (Muncy Creek), Muncy Creek Township, Lycoming County, Pa. Surface water withdrawal of up to 0.700 mgd.

11. Project Sponsor and Facility: Dunn Lake LLC (Dunn Pond), Ararat Township, Susquehanna County, Pa. Surface water withdrawal of up to 0.999 mgd.

12. Project Sponsor and Facility: EXCO Resources (PA), LLC (Muncy Creek—McClintock), Penn Township, Lycoming County, Pa. Surface water withdrawal of up to 1.500 mgd.

13. Project Sponsor: Glenn O. Hawbaker, Inc. Project Facility: Greens Landing Aggregate Plant, Athens Township, Bradford County, Pa. Surface water withdrawal of up to 0.249 mgd.

14. Project Sponsor: Glenn O. Hawbaker, Inc. Project Facility: Greens Landing Aggregate Plant, Athens Township, Bradford County, Pa. Consumptive water use of up to 0.249 mgd.

15. Project Sponsor: Hazleton Creek Properties, LLC. Project Facility: Hazleton Mine Reclamation, Hazleton City, Luzerne County, Pa. Modification to increase groundwater withdrawal by an additional 0.145 mgd, for a total of 0.200 mgd (30-day average) (Docket No. 20110307).

16. Project Sponsor and Facility: Keystone Clearwater Solutions, LLC (Babb Creek), Morris Township, Tioga County, Pa. Surface water withdrawal of up to 0.950 mgd.

17. Project Sponsor and Facility: Sugar Hollow Trout Park and Hatchery, Eaton Township, Wyoming County, Pa. Modification to project features and conditions of the groundwater withdrawal approval (Docket No. 20100913).

18. Project Sponsor and Facility: Sugar Hollow Water Services, LLC (Susquehanna River—Chellis), Eaton Township, Wyoming County, Pa. Surface water withdrawal of up to 1.500 mgd.

19. Project Sponsor: The Municipal Authority of the Borough of Berlin. Project Facility: Berlin Borough Municipal Authority, Allegheny Township, Somerset County, Pa. Modification to conditions of the groundwater withdrawal approval (Docket No. 19980702).

20. Project Sponsor and Facility: Walker Township Water Association, Walker Township, Centre County, Pa. Modification to increase the total groundwater system withdrawal limit from 0.523 mgd to 0.753 mgd (30-day average) (Docket No. 20070905).

21. Project Sponsor and Facility: Williams Production Appalachia, LLC (Middle Branch Wyalusing Creek), Forest Lake Township, Susquehanna County, Pa. Surface water withdrawal of up to 0.750 mgd.

22. Project Sponsor and Facility: Williams Production Appalachia, LLC (Snake Creek-2), Franklin Township, Susquehanna County, Pa. Surface water withdrawal of up to 0.999 mgd.

23. Project Sponsor and Facility: Williams Production Appalachia, LLC (Susquehanna River), Great Bend Township, Susquehanna County, Pa. Commission-initiated modification to project features and conditions of the surface water withdrawal approval (Docket No. 20090303), making a correction and reducing the approved surface water withdrawal amount from 3.00 mgd to 1.00 mgd.

24. Project Sponsor and Facility: Williams Production Appalachia, LLC (Susquehanna River-2), Great Bend Township, Susquehanna County, Pa. Surface water withdrawal of up to 2.000 mgd.

Authority: Pub. L. 91-575, 84 Stat. 1509 et seq., 18 CFR parts 806, 807, and 808.

Dated: March 23, 2012.
Thomas W. Beauduy,
Deputy Executive Director.

[FR Doc. 2012-7552 Filed 3-28-12; 8:45 am]

BILLING CODE 7040-01-P